DEPARTMENT OF ENERGY

Federal Energy Regulatory Commission

Combined Notice of Filings

Take notice that the Commission has received the following Natural Gas Pipeline Rate and Refund Report filings:

Filings Instituting Proceedings

Docket Numbers: PR25-24-000.

Applicants: NET Mexico Pipeline Partners, LLC.

Description: 284.123(g) Rate Filing: Petition for Approval of Rates for Transportation Service.

Filed Date: 12/30/24.

Accession Number: 20241230-5353.

Comment Date: 5 p.m. ET 1/17/25.

284.123(g) Protest: 5 p.m. ET 2/28/25.

Docket Numbers: RP25-315-000.

Applicants: Alliance Pipeline L.P.

Description: 4(d) Rate Filing: Negotiated Rates—Releases—2025-01-01 to be effective 1/1/2025.

Filed Date: 12/30/24.

Accession Number: 20241230-5299.

Comment Date: 5 p.m. ET 1/13/25.

Docket Numbers: RP25-316-000.

Applicants: Florida Gas Transmission Company, LLC.

Description: Compliance filing: Annual Accounting Report on 12-31-24 to be effective N/A.

Filed Date: 12/31/24.

Accession Number: 20241231-5004.

Comment Date: 5 p.m. ET 1/13/25.

Docket Numbers: RP25-317-000.

Applicants: Florida Gas Transmission Company, LLC.

Description: 4(d) Rate Filing: Out of Cycle Fuel Filing on 12-31-24 to be effective 2/1/2025.

Filed Date: 12/31/24.

Accession Number: 20241231-5005.

Comment Date: 5 p.m. ET 1/13/25.

Docket Numbers: RP25-318-000.

Applicants: Sea Robin Pipeline Company, LLC.

Description: 4(d) Rate Filing: Annual Flowthrough Crediting Mechanism Filing 12-31-24 to be effective 2/1/2025.

Filed Date: 12/31/24.

Accession Number: 20241231-5006.

Comment Date: 5 p.m. ET 1/13/25.

Docket Numbers: RP25-319-000.

Applicants: Mountain Valley Pipeline, LLC.

Description: 4(d) Rate Filing: Negotiated Rate Agreements—1/1/2025 to be effective 1/1/2025.

Filed Date: 12/31/24.

Accession Number: 20241231-5013.

Comment Date: 5 p.m. ET 1/13/25.

Docket Numbers: RP25-320-000.

Applicants: Rover Pipeline LLC.

Description: 4(d) Rate Filing: Amended Non-Conforming Agreement—Antero to be effective 1/1/2025.

Filed Date: 12/31/24.

Accession Number: 20241231-5103.

Comment Date: 5 p.m. ET 1/13/25.

Docket Numbers: RP25-321-000.

Applicants: El Paso Natural Gas Company, L.L.C.

Description: 4(d) Rate Filing: Negotiated Rate Agreement Update (Hartree Jan 25) to be effective 1/1/2025.

Filed Date: 12/31/24.

Accession Number: 20241231-5162.

Comment Date: 5 p.m. ET 1/13/25.

Docket Numbers: RP25-322-000.

Applicants: Columbia Gulf Transmission, LLC.

Description: 4(d) Rate Filing: Revisions to GT&C VII.19 to be effective 2/1/2025.

Filed Date: 12/31/24.

Accession Number: 20241231-5197.

Comment Date: 5 p.m. ET 1/13/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP22-1072-005.

Applicants: Tuscarora Gas Transmission Company.

Description: Compliance filing: Tuscarora Rate Case Motion to Place Period 2 Settlement Rates Into Effect to be effective 2/1/2025.

Filed Date: 12/31/24.

Accession Number: 20241231-5155.

Comment Date: 5 p.m. ET 1/13/25.

Docket Numbers: RP23-1099-000.

Applicants: Gas Transmission Northwest LLC.

Description: Refund Report: Settlement Refund Report to be effective N/A.

Filed Date: 12/30/24.

Accession Number: 20241230-5294.

Comment Date: 5 p.m. ET 1/13/25.

Docket Numbers: RP24-781-008.

Applicants: Algonquin Gas Transmission, LLC.

Description: Compliance filing: Algonquin Gas Transmission, LLC X-33 Revised Tariff Record Filing RP24-781 to be effective 1/1/2025.

Filed Date: 12/30/24.

Accession Number: 20241230-5366.

Comment Date: 5 p.m. ET 1/13/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 31, 2024.
Debbie-Anne A. Reese,
Secretary.

[FR Doc. 2025-00091 Filed 1-6-25; 8:45 am]

BILLING CODE 6717-01-P